DEPARTMENT OF THE INTERIOR

National Park Service

[NPS-WASO-NRNHL-19335; PPWOCRADI0, PCU00RP14.R50000]

National Register of Historic Places; Notification of Pending Nominations and Related Actions

AGENCY: National Park Service, Interior.

ACTION: Notice.

SUMMARY: The National Park Service is soliciting comments on the significance of properties nominated before September 12, 2015 for listing or related actions in the National Register of Historic Places.

DATES: Comments should be submitted by October 21, 2015.

ADDRESSES: Comments may be sent via U.S. Postal Service the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before May 23, 2015. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

CALIFORNIA

Monterey County

Aeneas Sardine Packing Company Cannery, 300 Cannery Row, Monterey, 15000739

COLORADO

Routt County

Hayden Co-Operative Elevator Company, 198 E. Lincoln Ave., Hayden, 15000740

DISTRICT OF COLUMBIA

District of Columbia

Capitol Hill Historic District (Boundary Increase II), Squares 752, 753, 777, 788 bounded by 2nd, 4th & F Sts. NE., Washington, 15000741

Davis, Colonel William Robert, House, 3020 Albemarle St. NW., Washington, 15000742

Young, Browne, Phelps and Springarn Educational Campus Historic District, (Public School Buildings of Washington, DC MPS) 2500 Benning Rd. NE., 704, 820, & 850 26th St. NE., Washington, 15000743

GEORGIA

Stephens County

Toccoa Downtown Historic District (Boundary Increase), 118 W. Doyle St., Toccoa, 15000744

IOWA

Carroll County

Manning Commercial Historic District, (Iowa's Main Street Commercial Architecture MPS) 217-411, 413-507, 302-326 Main, 717-723 3rd, 303 Center & 825 5th Sts., Manning, 15000745

Henry County

Benjamin Chapel and Richwoods Cemetery, 1936 Franklin Ave., Trenton, 15000746

Boyle, Hugh and Matilda, House and Cemetery Historic District, 3225 Lexington Ave., Lowell, 15000747

Edwards, Joseph A. and Lydia A., House, 1735 Salem Rd., Salem, 15000748

Garretson, Owen A. and Emma J., House, 1878 335th St., Salem, 15000750

Linn County

Cedar Rapids 2nd Avenue SE. Automobile Row Historic District, Roughly 2nd to 3rd Aves., SE., from 6th to 8th Sts., SE., Cedar Rapids, 15000749

Monroe Elementary School Historic District, 3200 Pioneer Ave., SE., Cedar Rapids, 15000751

Montgomery County

Ellis, William and Amanda J., Farmstead Historic District, 1134 I Ave., Elliott, 15000752

NEW YORK

Essex County

Helen Hill Historic District, Prescott Place, Helen & Front Sts., Sheppard, Franklin & Clinton Aves., Saranac Lake, 15000754

OHIO

Hamilton County

William Howard Taft National Historic Site (Boundary Increase and Additional Documentation, 2038 Auburn Ave., Cincinnati, 15000753

A request to move has been made for the following resource:

INDIANA

Clay County

Indiana State Highway Bridge 46-11-1316, IN 46 over Eel R., Bowling Green, 00000211

In the interest of preservation a three day comment period has been requested for the following resource:

WISCONSIN

Ozaukee County

SENATOR (steam screw) Shipwreck, (Great Lakes Shipwreck Sites of Wisconsin MPS) Address Restricted, Port Washington, 15000738

Authority: 60.13 of 36 CFR part 60

Dated: September 16, 2015.
Roger Reed,
Acting Chief, National Register of Historic Places/National Historic Landmarks Program.

[FR Doc. 2015-25375 Filed 10-5-15; 8:45 am]

BILLING CODE 4312-51-P